DEPARTMENT OF DEFENSE

Office of the Secretary

[Transmittal No. 24-73]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6523, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-73 and Policy Justification.

Dated: November 18, 2025.
Aaron T. Siegel,
Alternate OSD Federal Register Liaison Officer, Department of Defense.

BILLING CODE 6001-FR-P

BILLING CODE 6001-FR-C

Transmittal No. 24-73

Notice of Proposed Issuance of Letter of Offer Pursuant to Section 36(b)(1) of the Arms Export Control Act, as amended

(i) Prospective Purchaser: Government of Israel

(ii) Total Estimated Value:

Major Defense Equipment * | $ 0
Other | $164.6 million
TOTAL | $164.6 million

Funding Source: Foreign Military Financing

(iii) Description and Quantity or Quantities of Articles or Services under Consideration for Purchase: Foreign Military Sales (FMS) case IS-B-ZJY was below congressional notification threshold at $40.1 million and included Heavy Duty Tank Trailers (HDTTs); tool kits; spare parts; publications; associated technical documentation; and other related elements of logistics and program support. The Government of Israel has requested that the case be amended to include additional HDTTs. This amendment will cause the case to exceed the notification threshold, and thus notification of the entire program is required.

The above notification requirements are combined as follows:

Major Defense Equipment (MDE):

None

Non-Major Defense Equipment: The following non-MDE items will be included: Heavy Duty Tank Trailers (HDTT); spare and repair parts; tool kits; driver tools; corrosion protection; publications and technical documentation; U.S. Government support; technical, and logistics support services; storage; and other related elements of logistics and program support.

(iv) Military Department: Army (IS-B-ZJY)

(v) Prior Related Cases, if any: None

(vi) Sales Commission, Fee, etc., Paid, Offered, or Agreed to be Paid: None

(vii) Sensitivity of Technology Contained in the Defense Article or Defense Services Proposed to be Sold: None

(viii) Date Report Delivered to Congress: September 12, 2024

* as defined in Section 47(6) of the Arms Export Control Act.

POLICY JUSTIFICATION

Israel—Heavy Duty Tank Trailers

The Government of Israel has requested to buy additional Heavy Duty Tank Trailers (HDTT) that will be added to a previously implemented case whose value was under the congressional notification threshold. The original FMS case, valued at $40.1 million ($0 in MDE), included HDTTs; spare and repair parts; tool kits; driver tools; corrosion protection; publications and technical documentation; U.S. Government support; technical and logistics support services; storage; and other related elements of logistics and program support. This notification is for the items in the original case and the additional HDTTs. The estimated total cost is $164.6 million.

The United States is committed to the security of Israel, and it is vital to U.S. national interests to assist Israel to develop and maintain a strong and ready self-defense capability. This proposed sale is consistent with those objectives.

The proposed sale will improve Israel's capability to meet current and future threats in the defense of its borders. Israel will have no difficulty absorbing this equipment into its armed forces.

The proposed sale of this equipment and support will not alter the basic military balance in the region.

The principal contractor will be Leonardo DRS, located in Arlington, VA. There are no known offset agreements proposed in connection with this potential sale.

Implementation of this proposed sale will not require the assignment of any additional U.S. Government or contractor representatives to Israel.

There will be no adverse impact on U.S. defense readiness as a result of this proposed sale.

[FR Doc. 2025-20421 Filed 11-19-25; 8:45 am]

BILLING CODE 6001-FR-P